DEPARTMENT OF COMMERCE

International Trade Administration

Proposed Information Collection; Comment Request; Participant Application, Program Exit Questionnaire, SABIT Alumni Success Story Report (Feedback Form)

AGENCY: International Trade Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 17, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Tracy M. Rollins, (202) 482-0073, tracy.rollins@trade.gov, fax (202) 482-2443.

SUPPLEMENTARY INFORMATION:

I. Abstract

The Special American Business Internship Training (SABIT) Programs of the Department of Commerce's International Trade Administration (ITA), are a key element in the U.S. Government's efforts to support the economic transition of Eurasia (the former Soviet Union) and to support economic growth in other regions of the world, including Pakistan and the Middle East, et al. SABIT develops and implements three- to four-week training programs for groups of up to 18 business and government professionals from Eurasia and other regions. They are trained by government agencies, non-government offices (NGOs) and U.S. companies in various business practices and principles. This unique private sector-U.S. Government partnership was created in order to tap the U.S. private sector's expertise assisting the transition of developing regions to market economies while boosting trade between the United States and other countries. Participant applications and feedback (exit) surveys are needed to enable SABIT to find the most qualified people for the training programs and to track the success of the program as regards to trade between the U.S. and the countries SABIT covers, as well as to improve the content and administration of the programs. Alumni feedback forms are used by SABIT staff to record success information but on occasion are sent to alumni to be completed. The closing date for applications and supplemental materials is based upon the starting date of the program and is published, with the application, on the program's English-language Web site at http://www.trade.gov/sabit, and also on the Russian-language Web site at http://www.sabitprogram.org, if applicable. Pursuant to section 632(a) of the Foreign Assistance Act of 1961, as amended, funding for the programs will be provided by the Agency for International Development (AID).

II. Method of Collection

Applications are sent to program candidates via electronic mail, facsimile, or mail upon request. Applications are also available to be downloaded from the SABIT English and Russian language Web sites at http://www.trade.gov/sabit and http://www.sabitprogram.org. Feedback surveys are given to program participants at the completion of programs.

III. Data

OMB Control Number: 0625-0225.

Form Number(s): None.

Type of Review: Regular submission.

Affected Public: Individuals or households; business or other for-profit organizations.

Estimated Number of Respondents: 2,000.

Estimated Time per Response: 3 hours for application; 1 hour for program feedback form; 1 hour for alumni feedback form.

Estimated Total Annual Burden Hours: 40,500.

Estimated Total Annual Cost to Public: $18,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 14, 2011.
Gwellnar Banks,
Management Analyst, Office of the Chief Information Officer.

[FR Doc. 2011-6341 Filed 3-17-11; 8:45 am]

BILLING CODE 3510-HE-P